DEPARTMENT OF AGRICULTURE

Forest Service

Pacific Southwest Region, Regional Office, California, Sierra Nevada Forests—Management Indicator Species Amendment

AGENCY: Forest Service, USDA.

ACTION: Notice of intent to prepare an environmental impact statement.

SUMMARY: The Pacific Southwest Region of the U.S. Forest Service proposes to adopt a common list of Management Indicator Species (MIS) and associated monitoring strategies by amending the Land and Resource Management Plans (LRMPs) for the Eldorado, Inyo, Lassen, Modoc, Plumas, Sequoia, Sierra, Stanislaus, and Tahoe National Forests and Lake Tahoe Basin Management Unit. These will likely be non-significant forest plan amendments.

DATES: To be most effective, comments concerning the scope of the analysis should be received by May 21, 2007. Public scoping for this analysis, originally expected to be documented in an Environmental Assessment, began on February 21, 2007. Unless response to this notice raises concerns not yet expressed, the draft environmental impact statement is expected in late May 2007 and the final environmental impact statement is expected in July 2007.

ADDRESSES: Send comments to the Forest Service at the following addresses. Hardcopy mail: U.S. Forest Service, 1323 Club Drive, Vallejo, CA 94592, ATTN: Brenda Kendrix. Electronic mail: comments-pacificsouthwest-regional-office@fs.fed.us, Subject Line: Sierra Nevada Forests MIS Amendment. Use Rich Text Format (.rtf) or Word (.doc).

FOR FURTHER INFORMATION CONTACT: For further information contact Diana Craig, Interdisciplinary Team Leader, at U.S. Forest Service, 1323 Club Drive, Vallejo, CA, or at the e-mail address above.

SUPPLEMENTARY INFORMATION:

Purpose and Need for Action

This proposed action responds to a need for a more suitable and manageable list of MIS, while maintaining a sufficient number of species to cover the range of habitats in the Sierra Nevada affected by Forest Service management activities. Monitoring and recent judicial interpretations have led to the conclusion that the Forest plan provisions related to MIS and MIS monitoring are in need of reconsideration. Specifically, some MIS currently identified in the LRMPs are problematic because (1) no tested monitoring methodology exists or the methodology is prohibitively expensive, (2) some MIS currently identified in the LRMPs are not strongly linked to habitats or ecosystem components that are affected by national forest management activities, or (3) some MIS do not occur on or occur only incidentally on a Forest and, therefore, neither populations nor habitat relationships can be monitored for MIS objectives.

In addition, the current lists provide no coordination or standardization across the Sierra Nevada Forests. Each national forest has a different, and often unrelated, MIS list. Often forest scale information does not provide the most meaningful biological data. Maintaining a monitoring program on each individual forest is not strategic and is an inefficient use of money and resources.

The purpose of this action is to improve the ability of the national forests to provide for the diversity of plant and animal communities, as identified in the National Forest Management Act (NFMA). This will be accomplished by identifying MIS for the 10 national forests (1) that are clearly linked to habitats or ecosystem components that are affected by national forest management activities, and (2) for which population or habitat status and change can be effectively and affordably monitored and evaluated.

Proposed Action

The Forest Service proposes to adopt common list of MIS and associated monitoring strategies by amending, via non-significant forest plan amendment, the LRMPs for the ten Sierra Nevada National Forests in the Pacific Southwest Region (Eldorado, Inyo, Lassen, Modoc, Plumas, Sequoia, Sierra, Stanislaus, and Tahoe National Forests and Lake Tahoe Basin Management Unit). These ten national forests occur in Alpine, Amador, Butte, Calaveras, El Dorado, Fresno, Inyo, Kern, Lassen, Madera, Mariposa, Modoc, Mono, Nevada, Placer, Plumas, Shasta, Sierra, Siskiyou, Tulare, Tuolumne, Yuba, and Douglas Counties in California and Esmeralda and Mineral Counties in Nevada.

This action will replace the existing MIS lists and associated monitoring strategies identified in the LRMPs for each of the 10 national forests. Other MIS-related parts of the LRMPs (e.g., habitat objectives, desired conditions, standards and guidelines) will NOT be changed by this proposal; therefore, habitat and species-specific protection measures will continue for all current MIS.

The proposed action will have the following components: (1) Major habitats or ecosystem components that are affected by national forest management activities on the ten national forests; (2) suitability and feasability criteria to assess whether a species meets the identified need; (3) MIS for major habitats or ecosystem components identified in component 1; and (4) appropriate monitoring strategies for each identified MIS (habitat or population monitoring, including the specific type of population monitoring).

Possible Alternatives

Public comment has suggested an alternative analyzing all species identified as MIS in Appendix E of the 2001 Final Environmental Impact Statement for the Sierra Nevada Forest Plan Amendment (2001 SNFPA FEIS) and associated monitoring. We will analyze this alternative, called SNFPA Appendix E, in detail.

Responsible Official

Bernard Weingardt, Regional Forester, Pacific Southwest Region, U.S. Forest Service, 1323 Club Drive, Vallejo, California 94592, is the Responsible Official.

Nature of Decision To Be Made

The Responsible Official will decide whether to amend by adopting a common list of MIS and associated monitoring strategies for each of the 10 LRMPs as proposed, to amend with an alternative MIS list and associated strategies, or retain the existing MIS lists and associated monitoring strategies. Although non-significant Forest Plan amendments are normally signed by Forest Supervisors, the Regional Forester for the Pacific Southwest Region will be the Deciding Officer for this decision.

Scoping Process

The analysis of this proposed action was originally expected to be documented in an Environmental Assessment (EA). Formal scoping for this analysis began on February 21, 2007 when a scoping letter was sent to over 4,000 addresses. The Forest Service used the last known distribution list of the 2004 Sierra Nevada Forests Plan Amendment Record of Decision because the current amendment covers roughly the same area and communities of interest. An open house was held on March 23, 2007. The proposed action was first published in the Schedules of Proposed Actions for each of the ten Forests for the Second Quarter of Fiscal Year 2007. An Internet Web site (http://www.fs.fed.us/r5/snfmisa) displays comprehensive information about the project. This notice of intent offers the opportunity to comment to a larger audience.

Preliminary Issues

Comments about implementing the existing monitoring requirements in the Sierra Nevada Forests Plan Amendment and concerns that those requirements should not be weakened will drive development of an alternative as described above in the Possible Alternatives section.

Comment Requested

This notice of intent continues the scoping process which now guides the development of an environmental impact statement.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: April 24, 2007.
Beth G. Pendleton,
Deputy Regional Forester, Pacific Southwest Region.

[FR Doc. E7-8160 Filed 4-27-07; 8:45 am]

BILLING CODE 3410-11-P